FEDERAL COMMUNICATIONS COMMISSION

[Report No. AUC-01-31-B (Auction No. 31); DA 01-1546]

Auction of Licenses for the 747-762 and 777-792 MHz Bands (Auction No. 31) Is Postponed

AGENCY: Federal Communications Commission.

ACTION: Notice.

SUMMARY: This document announces the postponement of the upcoming auction of licenses in the 747-762 and 777-792 MHz band (Auction No. 31), previously scheduled to begin on September 12, 2001. The postponement is necessary to allow for resolution of pending petitions for reconsideration and clarification of the Commission's Third Report and Order.

FOR FURTHER INFORMATION CONTACT: Howard Davenport or Bill Huber, Auctions Legal Branch at (202) 418-0660.

SUPPLEMENTARY INFORMATION: This is a summary of a Public Notice released July 11, 2001 (700 MHz Postponement Public Notice). The complete text of the 700 MHz Postponement Public Notice is available for inspection and copying during normal business hours in the FCC Reference Center (Room CY-A257), 445 12th Street, SW, Washington, DC. It may also be purchased from the Commission's copy contractor, International Transcription Services, Inc. (ITS, Inc.), 445 12th Street, SW, Room CY-B400, Washington, DC 20554, (202) 314-3070. The 700 MHz Postponement Public Notice is also available on the Internet at the Commission's web site: http://www.fcc.gov/wtb/documents.html.

The auction of licenses in the 747-762 and 777-792 MHz bands (Auction No. 31), previously scheduled to begin on September 12, 2001, will be delayed pending Commission resolution of petitions for reconsideration and clarification of the Commission's Third Report and Order in WT Docket No. 99-168, CS Docket No. 98-120, and MM Docket No. 00-39. See Third Report and Order, 66 FR 10204 (February 14, 2001). Upon release of the Commission's order acting on those petitions for reconsideration, the Wireless Telecommunications Bureau will release a public notice announcing key dates for Auction No. 31.

Federal Communications Commission.
Margaret Wiener,
Chief, Auctions & Industry Analysis Division, Wireless Telecommunications Bureau.

[FR Doc. 01-18583 Filed 7-24-01; 8:45 am]

BILLING CODE 6712-01-P